DEPARTMENT OF THE INTERIOR

Bureau of Land Management

Notice of Public Meeting: Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held March 21, 2006, beginning at 9 a.m. and adjourning at 4 p.m. at the BLM Boise District Office, Snake River Conference Room located at 3948 Development Ave, Boise, ID. Public comment periods will be held after topics on the agenda.

FOR FURTHER INFORMATION CONTACT: M.J. Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. Meeting topics will include the following:

• Hot Topics;

• Updates on current issues and planned activities in the three Field Offices and the District;

• District Administrative Officer will provide additional information on the 2006 budget process, budget reductions and impacts to workload accomplishments.

• Subcommittee Reports:

○ Rangeland Standards and Guidelines;

○ OHV & Transportation Management;

○ Sage Grouse Habitat Management, and;

○ Resource Management Plans

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: February 17, 2006.
Jerry L. Taylor,
District Manager.

[FR Doc. E6-2649 Filed 2-23-06; 8:45 am]

BILLING CODE 4310-GJ-P